ENVIRONMENTAL PROTECTION AGENCY

[EPA-HQ-OGC-2018-0767; FRL-9995-53-OGC]

Proposed Settlement Agreement, Challenge to Clean Air Act SIP Action

AGENCY: Environmental Protection Agency (EPA).

ACTION: Notice of proposed settlement agreement; request for public comment.

SUMMARY: In accordance with section 113(g) of the Clean Air Act, as amended (“CAA” or the “Act”), notice is hereby given of a proposed settlement agreement to resolve a case filed by ArcelorMittal Burns Harbor, L.L.C. (“ArcelorMittal”), involving an EPA action on a State Implementation Plan (SIP) revision submitted by the State of Indiana. On February 25, 2014, ArcelorMittal filed a petition with the United States Court of Appeals for the Seventh Circuit challenging EPA's disapproval of Indiana's SIP revision which would have removed the emissions limit for SO2 from the blast furnace gas flare at ArcelorMittal's steel mill in Porter County, Indiana. ArcelorMittal Burns Harbor LLC v. EPA (14-1412, 7th Cir.). Under the proposed settlement agreement, the parties agree to take certain specified actions.

DATES: Written comments on the proposed settlement agreement must be received by July 24, 2019.

ADDRESSES: Submit your comments, identified by Docket ID number EPA-HQ-OGC-2018-0767, online at www.regulations.gov (EPA's preferred method). For comments submitted at www.regulations.gov, follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Mike Thrift, Air and Radiation Law Office, Office of General Counsel, c/o U.S. Environmental Protection Agency, San Diego Border Office, 610 West Ash Street, San Diego, CA 92101; telephone: (619) 321-1960; email address: thrift.mike@epa.gov.

SUPPLEMENTARY INFORMATION:

I. Additional Information About the Proposed Settlement Agreement

The proposed settlement agreement would resolve the case filed by ArcelorMittal challenging EPA Region 5's disapproval of the State of Indiana's SIP revision, submitted on December 10, 2009. EPA issued a final rule disapproving the SIP revision on December 27, 2013. On February 25, 2014, ArcelorMittal filed a petition for review of EPA's disapproval action in the United States Circuit Court of Appeals for the Seventh Circuit. ArcelorMittal Burns Harbor LLC v. EPA (No. 14-1412). The State of Indiana intervened in the case on petitioner's behalf and is also a party to the settlement agreement.

Under the terms of the proposed settlement agreement, Indiana agrees to submit to EPA a SIP revision which contains numeric emissions limits, a blast furnace gas testing protocol, and other specified provisions. EPA agrees to propose and take final action on the SIP submittal. If EPA approves a SIP submittal with numeric emissions limits and blast furnace gas testing protocol which are identical to those in the agreement, and otherwise contains terms substantially consistent with those in the agreement, ArcelorMittal agrees to dismiss its petition for review with prejudice. The proposed settlement agreement also provides that nothing in the settlement agreement limits the discretion of EPA to alter, amend, or revise its action under the agreement, nor does the agreement limit or modify any discretion afforded EPA by the Act or by general principles of administrative law. See the proposed settlement agreement for specific details.

For a period of thirty (30) days following the date of publication of this notice, the Agency will accept written comments relating to the proposed settlement agreement from persons who are not named as parties or intervenors to the litigation in question. EPA may withdraw or withhold consent to the proposed settlement agreement if the comments disclose facts or considerations that indicate that such consent is inappropriate, improper, inadequate, or inconsistent with the requirements of the Act.

II. Additional Information About Commenting on the Proposed Settlement Agreement

A. How can I get a copy of the settlement agreement?

The official public docket for this action (identified by Docket ID No. EPA-HQ-OGC-2018-0767) contains a copy of the proposed settlement agreement. The official public docket is available for public viewing at the Office of Environmental Information (OEI) Docket in the EPA Docket Center, EPA West, Room 3334, 1301 Constitution Ave. NW, Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use www.regulations.gov to submit or view public comments, access the index listing of the contents of the official public docket, and access those documents in the public docket that are available electronically. Once in the system, key in the appropriate docket identification number then select “search.”

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider late comments.

If you submit an electronic comment, EPA recommends that you include your name, mailing address, and an email address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov website to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: June 11, 2019.
Gautam Srinivasan,
Acting Associate General Counsel.

[FR Doc. 2019-13400 Filed 6-21-19; 8:45 am]

BILLING CODE P